NATIONAL FOUNDATION ON THE ARTS AND THE HUMANITIES

Solicitation of Public Comments on Guidelines for Ensuring and Maximizing the Quality, Objectivity, Utility, and Integrity of Information Disseminated by the National Endowment for the Arts

AGENCY: National Endowment for the Arts.

ACTION: Notice and request for public comment.

SUMMARY: The National Endowment for the Arts (Endowment) announces that its draft Guidelines for Ensuring and Maximizing the Quality, Objectivity, Utility, and Integrity of Information Disseminated by the National Endowment for the Arts have been posted on the Endowment website, www.arts.gov. The Endowment invites public comments on its draft Guidelines and will consider the comments received in developing its final Guidelines.

DATES: Comments are due on or before July 15, 2002. Final Guidelines are to be published by October 1, 2002.

ADDRESSES: Submit comments to the Office of General Counsel, National Endowment for the Arts, 1100 Pennsylvania Avenue, NW, Washington, DC 20506, ogc@arts.endow.gov.

FOR FURTHER INFORMATION CONTACT: Hope O'Keeffe, Acting General Counsel, telephone 202-682-5418, ogc@arts.endow.gov. Hearing-impaired individuals may contact the Endowment by TDD/TTY at 202-682-5496.

SUPPLEMENTARY INFORMATION: Section 515 of the Treasury and General Government Appropriations Act for FY 2001 (Pub. L. 106-554) requires each Federal agency to publish guidelines for ensuring and maximizing the quality, objectivity, utility, and integrity of the information it disseminates. Agency guidelines must be based on government-wide guidelines issued by the Office of Management and Budget (OMB). In compliance with this statutory requirement and OMB instructions, the Endowment has posted its draft Information Quality Guidelines on the Endowment's website (www.arts.gov).

The Guidelines describe the agency's procedures for ensuring the quality of information that it disseminates and the procedures by which an affected person may obtain correction of information disseminated by the Endowment that does not comply with the Guidelines. The Endowment invites public comments on its draft Guidelines and will consider the comments received in developing its proposed final Guidelines, which must be submitted to OMB for review. The agency's final Guidelines are to be published by October 1, 2002. Persons who cannot access the draft Guidelines through the Internet may request a paper or electronic copy by contacting the Office of the General Counsel.

Guidelines for Ensuring and Maximizing the Quality, Objectivity, Utility, and Integrity of Information Disseminated by the National Endowment for the Arts

These Guidelines for Ensuring and Maximizing the Quality, Objectivity, Utility, and Integrity of Information Disseminated by the National Endowment for the Arts are prepared under the Treasury and General Government Appropriations Act for Fiscal Year 2001, Section 515(b), and are designed to ensure and maximize the quality, objectivity, utility and integrity of information disseminated by the Endowment.

1. The Endowment has adopted a basic standard of quality (including objectivity, utility, and integrity) as a performance goal for all information that it disseminates. The Endowment has taken appropriate steps to incorporate information quality criteria into Endowment information dissemination practices.

2. As a matter of good and effective agency information resources management, the Endowment reviews the quality (including the objectivity, utility, and integrity) of information before it is disseminated. Information quality is integral to every step of the Endowment's development of information, including creation, collection, maintenance, and dissemination. The Endowment substantiates the quality of the information it has disseminated through documentation or other means appropriate to the information.

3. Generally, the office disseminating the information, such as the Office of Communications, the Office of Policy Research & Analysis, the Office of Guidelines and Panel Operations, or the Office of Congressional Liaison, will be responsible for reviewing the quality of information before dissemination, with appropriate oversight by the Endowment's Chairman or the Chairman's designees. The originating offices will use internal peer reviews and other review mechanisms to ensure that disseminated information meets quality standards including objectivity, utility, and integrity in both presentation and substance. Each office is responsible for ensuring that the pre-dissemination review is performed and documented at a level appropriate for the type of information disseminated.

4. To facilitate citizen review, affected persons may seek and obtain, where appropriate, timely correction of information maintained and disseminated by the Endowment that does not comply with OMB or Endowment guidelines.

a. Requests for correction should be sent in writing, by mail, fax, or email to: Information Change Request, Office of General Counsel, National Endowment for the Arts, 1100 Pennsylvania Avenue, NW., Washington, DC 20506, (202) 682-5418, (202) 682-5572 (fax), ogc@arts.endow.gov.

b. The request should clearly identify the information asserted to be incorrect, including the name of the publication or other source of information, the date of issuance, and a detailed description of the information to be corrected. The request should state specifically why the information should be corrected and suggest specific changes.

c. The request should include the requester's name, mailing address, fax number, email address, and telephone number. The Endowment needs this information to respond to the request and to contact the requester as necessary.

d. If a request does not reasonably describe the information asserted to be incorrect, the Endowment may request additional information.

5. The Endowment will investigate and respond to requests for correction in a flexible manner, taking into consideration the nature and extent of the complaint, the nature and timeliness of the information involved, the significance of the correction to the use of the information, and the magnitude of the correction needed. Should the Endowment determine that a correction is necessary, appropriate responses might include personal contacts by letter or telephone, press releases, website postings, errata sheets in publications, or mass mailings to correct a widely disseminated error or address a frequently raised complaint.

6. The Endowment will generally notify the requester of the agency decision on whether and how any corrections will be made within 30 business days of receipt of the request. If the requester does not agree with the agency's decision regarding corrective action, the requester may file for reconsideration by the Chairman within 30 days of the Endowment's decision. Such reconsideration requests will generally be resolved within 45 business days.

7. The Endowment's pre-dissemination review, under paragraph 2, applies to information that the Endowment first disseminates on or after October 1, 2002. The Endowment's administrative mechanisms, under paragraph 4-6, apply to information that the Endowment disseminates on or after October 1, 2002, regardless of when the Endowment first disseminated the information.

8. The Chief Information Officer of the National Endowment for the Arts is responsible for Endowment compliance with predissemination review under these guidelines. The General Counsel of the National Endowment for the Arts is responsible for resolution of requests for correction.

9. On an annual fiscal-year basis, the Endowment will submit a report to the Director of OMB providing information (both quantitative and qualitative, where appropriate) on the number and nature of complaints received by the Endowment regarding Endowment compliance with these guidelines and how such complaints were resolved. The Endowment will submit these reports no later than January 1 of each following year, with the first report due January 1, 2004.

10. Definitions

a. “Quality” is an encompassing term comprising utility, objectivity, and integrity. Therefore, the guidelines sometimes refer to these four statutory terms, collectively, as “quality.”

b. “Utility” refers to the usefulness of the information to its intended users, including the public. In assessing the usefulness of information that the Endowment disseminates to the public, the Endowment will consider the uses of the information not only from the perspective of the Endowment but also from the perspective of the public. As a result, when reproducibility and transparency of information are relevant for assessing the information's usefulness from the public's perspective, the Endowment will take care to ensure that reproducibility and transparency have been addressed in its review of the information.

c. “Objectivity” involves two distinct elements, presentation and substance.

(1) “Objectivity” includes whether disseminated information is being presented in an accurate, clear, complete, and unbiased manner. This involves whether the information is presented within a proper context. Sometimes, in disseminating certain types of information to the public, other information must also be disseminated in order to ensure an accurate, clear, complete, and unbiased presentation. Also, the Endowment will, where appropriate, identify the sources of the disseminated information (to the extent possible, consistent with confidentiality protections) and, in a scientific or statistical context, the supporting data and models, so that the public can assess for itself whether there may be some reason to question the objectivity of the sources. Where appropriate, supporting data should have full, accurate, transparent documentation, and error sources affecting data quality should be identified and disclosed to users.

(2) In addition, “objectivity” involves a focus on ensuring accurate, reliable, and unbiased information.

(a) In a scientific or statistical context, the original or supporting data shall be generated, and the analytical results shall be developed, using sound statistical and research methods.

(b) If the results have been subject to formal, independent, external peer review, the information can generally be considered of acceptable objectivity.

(c) In those situations involving influential scientific or statistical information, the results must be capable of being substantially reproduced, if the original or supporting data are independently analyzed using the same models. Reproducibility does not mean that the original or supporting data have to be capable of being replicated through new experiments, samples or tests.

(d) Making the data and models publicly available will assist in determining whether analytical results are capable of being substantially reproduced.

(3) These guidelines do not alter the otherwise applicable standards and procedures for determining when and how information is disclosed. Thus, the objectivity standard does not override other compelling interests, such as privacy, trade secret, and other confidentiality protections.

d. “Integrity” refers to the security of information—protection of the information from unauthorized access or revision, to ensure that the information is not compromised through corruption or falsification.

e. “Information” means any communication or representation of knowledge such as facts or data, in any medium or form, including textual, numerical, graphic, cartographic, narrative, or audiovisual forms. This definition includes information that the Endowment disseminates from a web page, but does not include the provision of hyperlinks to information that others disseminate. This definition does not include opinions, where the Endowment's presentation makes it clear that what is being offered is an individual's opinion rather than fact or the Endowment's views.

f. “Government information” means information created, collected, processed, disseminated, or disposed of by or for the Federal Government.

g. “Information dissemination product” means any book, paper, map, machine-readable material, audiovisual production, or other documentary material, regardless of physical form or characteristic, an Endowment disseminates to the public. This definition includes any electronic document, CD-ROM, or web page.

h. “Dissemination” means Endowment initiated or sponsored distribution of information to the public in all media and formats. Dissemination does not include:

(1) distribution limited to government employees or Endowment contractors or grantees; intra-or inter-agency use or sharing of government information;

(2) responses to requests for Endowment records under the Freedom of Information Act, the Privacy Act, the Federal Advisory Committee Act or other similar law; or

(3) distribution limited to correspondence with individuals or persons, press releases, archival records, public filings, subpoenas or adjudicative processes.

i. “Influential” when used in the phrase “influential statistical information” means the Endowment expects that information in the form of analytical results will likely have an important effect on the development of domestic or international government or private sector policies or will likely have important consequences for specific technologies, substances, products, or firms.

j. “Capable of being substantially reproduced” means that independent reanalysis of the original or supporting data using the same methods would generate similar analytical results, subject to an acceptable degree of imprecision.

Dated: June 12, 2002.
For the National Endowment for the Arts.
Hope O'Keeffe,
Acting General Counsel.

[FR Doc. 02-15247 Filed 6-17-02; 8:45 am]

BILLING CODE 7537-01-P